DEPARTMENT OF TRANSPORTATION

Federal Aviation Administration

14 CFR Part 39

[Docket No. FAA-2015-1014; Directorate Identifier 2015-NE-14-AD]

RIN 2120-AA64

Airworthiness Directives; Rolls-Royce Deutschland Ltd & Co KG Turbofan Engines

AGENCY: Federal Aviation Administration (FAA), DOT.

ACTION: Proposed rule; withdrawal.

SUMMARY: The FAA is withdrawing a notice of proposed rulemaking (NPRM). The NPRM proposed a new airworthiness directive (AD) that had applied to all Rolls-Royce Deutschland Ltd & Co KG (RRD) Tay 650-15 and Tay 651-54 turbofan engines. The proposed action would have required reducing the cyclic life limits for certain high-pressure turbine (HPT) disks. Accordingly, we withdraw the proposed rule.

DATES: The proposed rule published in the Federal Register on June 8, 2015 (80 FR 32315, June 8, 2015) is withdrawn as of November 30, 2015.

FOR FURTHER INFORMATION CONTACT: Philip Haberlen, Aerospace Engineer, Engine Certification Office, FAA, Engine & Propeller Directorate, 12 New England Executive Park, Burlington, MA 01803; phone: 781-238-7770; fax: 781-238-7199; email: philip.haberlen@faa.gov.

SUPPLEMENTARY INFORMATION: The FAA proposed to amend 14 CFR part 39 with a proposed AD (80 FR 32315, June 8, 2015). The proposed AD had applied to Rolls-Royce Deutschland Ltd & Co KG (RRD) Tay 650-15 and Tay 651-54 turbofan engines. The NPRM proposed to reduce the cyclic life limits for certain HPT disks. The proposed action was prompted by an analysis that showed the need to reduce the cyclic life limits for certain HPT disks. The proposed actions intended to prevent failure of the HPT disk, which could result in uncontained disk release, damage to the engine, and damage to the airplane.

Since we issued the NPRM (80 FR 32315, June 8, 2015), additional information became available after the public comment period closed on August 7, 2015.

Upon further consideration, we hereby withdraw the proposed rule because we will propose to supersede AD 2006-18-14 (71 FR 52988, September 8, 2006).

Withdrawal of the NPRM (80 FR 32315, June 8, 2015) constitutes only such action, and does not preclude the agency from issuing another notice in the future, nor does it commit the agency to any course of action in the future.

Since this action only withdraws a notice of proposed rulemaking, it is neither a proposed nor a final rule. Therefore, Executive Order 12866, the Regulatory Flexibility Act, or DOT Regulatory Policies and Procedures (44 FR 11034, February 26, 1979) do not cover this withdrawal.

List of Subjects in 14 CFR Part 39

Air transportation, Aircraft, Aviation safety, Incorporation by reference, Safety.

The Withdrawal

Accordingly, the notice of proposed rulemaking, Docket No. FAA-2015-1014; Directorate Identifier 2015-NE-14-AD, published in the Federal Register on June 8, 2015 (80 FR 32315), is withdrawn.

Issued in Burlington, Massachusetts, on November 20, 2015.
Colleen M. D'Alessandro,
Directorate Manager, Engine & Propeller Directorate, Aircraft Certification Service.

[FR Doc. 2015-30010 Filed 11-27-15; 8:45 am]

BILLING CODE 4910-13-P